DEPARTMENT OF DEFENSE

Office of the Secretary

Meeting of the Department of Defense Wage Committee

AGENCY: Civilian Personnel Management Service (Wage and Salary Division), DoD.

ACTION: Notice of meeting.

SUMMARY: Under the provisions of section 10[d] of the Federal Advisory Committee Act of 1972, Public Law 92-463, it is hereby determined that every Wage Committee meeting concerns matters listed in 5 U.S.C. 552b[c][2] and 5 U.S.C. 552b[c][4], and that, accordingly, the meeting will be closed to the public. The DoD announces that the Department of Defense Wage Committee will meet in September, October, November and December 2009.

DATES: A meeting will convene at 10 a.m. on September 22, 2009. Additional meetings will be held on October 6 and 20, November 3 and 17, and December 1, 15, and 29, 2009.

ADDRESSES: The meetings will be held at 1400 Key Boulevard, Level A, Room A101, Rosslyn, Virginia 22209-5144.

FOR FURTHER INFORMATION CONTACT: Mr. Craig Jerabek, Designated Federal Officer for the Department of Defense Wage Committee, 1400 Key Boulevard, Suite A105, Arlington, Virginia 22209-5144, Telephone: (703) 696-1735, Fax: (703) 696-5472, E-mail: craig.jerabek@cpms.osd.mil.

SUPPLEMENTARY INFORMATION: Purpose of Meeting:

The Committee will receive, review, and consider wage survey specifications, wage survey data, local wage survey committee reports and recommendations, and wage schedules derived therefrom.

The Department of Defense Wage and Salary Division was unable to finalize its agenda in time to publish notice of its September 22, 2009, meeting in the Federal Register for the 15-calendar days required by 41 CFR 102-3.150(a). In order to meet legal effective dates, the meeting date cannot be changed. Accordingly, the Committee Management Officer for the Department of Defense, pursuant to 41 CFR 102-3.150(b), waives the 15-calendar day notification requirement.

Written Statements:

Members of the public are invited to submit material in writing to the chairman concerning matters believed to be deserving of the Committee's attention.

Additional information concerning the meetings may be obtained by writing to the Chairman, Department of Defense Wage Committee, 4000 Defense Pentagon, Washington, DC 20301-4000.

Dated: September 14, 2009.
Patricia L. Toppings,
OSD Federal Register Liaison Officer, Department of Defense.

[FR Doc. E9-22401 Filed 9-16-09; 8:45 am]

BILLING CODE 5001-06-P